ENVIRONMENTAL PROTECTION AGENCY

[ER-FRL-8986-2]

Environmental Impacts Statements; Notice of Availability

Responsible Agency: Office of Federal Activities, General Information (202) 564-1399 or http://www.epa.gov/compliance/nepa/.

Weekly receipt of Environmental Impact Statements

Filed 11/23/2009 Through 11/27/2009

Pursuant to 40 CFR 1506.9.

EIS No. 20090406, Final EIS, USFS, CA, Modoc National Forest Motorized Travel Management Plan, Implementation, National Forest Transportation System (NFTS), Modoc, Lassen and Siskiyou Counties, CA, Wait Period Ends: 01/04/2010, Contact: Kathleen Borovac 530-233-8754.

EIS No. 20090407, Draft EIS, NOAA, 00, Rationalization of the Pacific Coast Groundfish Limited Entry Trawl Fishery, Amendment 20, Implementation, WA, OR and CA, Comment Period Ends: 01/19/2010, Contact: Barry A. Thom 206-526-6150.

EIS No. 20090408, Draft EIS, USFS, CO, Rio de los Pinos Vegetation Management Project, Proposes to Salvage Engelmann Spruce Trees that have been killed by, or are Infested with, Spruce Beetle, Conejos Peak Ranger District, Rio Grande National Forest, Conejos, Rio Grande and Archuleta Counties, CO, Comment Period Ends: 01/19/2010, Contact: Jack Lewis 719-274-8971.

EIS No. 20090409, Final EIS, FHWA, CA, Partially Revised Tier 1—Placer Parkway Corridor Preservation Project, Select and Preserve a Corridor for the Future Construction from CA-70/99 to CA 65, Placer and Sutter Counties, CA, Wait Period Ends: 01/04/2010, Contact: Gary Sweeten 916-498-5128.

EIS No. 20090410, Draft Supplemental EIS, BR, CA, Mormon Island Auxiliary Dam Modification Project, Addressing Hydrologic, Seismic, Static, and Flood Management Issues, Sacramento and El Dorado Counties, CA, Comment Period Ends: 01/19/2010, Contact: Matthew See 916-989-7198.

EIS No. 20090411, Draft EIS, BLM, CA, Clear Creek Management Area Resource Management Plan (RMP), Implementation, Portion of San Benito County and Fresno County, CA, Comment Period Ends: 03/03/2010, Contact: Sandra McGinnis 916-985-4474.

EIS No. 20090412, Final EIS, USFS, CA, Stanislaus National Forest Motorized Travel Management (17305) Plan, Implementation, Stanislaus National Forest, CA, Wait Period Ends: 01/19/2010, Contact: Sue Warren 209-532-3671 Ext. 321.

Amended Notices

EIS No. 20090343, Draft EIS, USFS, OR, Deschutes and Ochoco National Forest and the Crooked River National Grassland Travel Management Project, Implementation, Deschutes, Jefferson, Crook, Klamath, Lake, Grant and Wheeler County, OR, Comment Period Ends: 12/08/2009, Contact: Mollie Chaudet 541-383-5517.

Revision of FR Notice Published 10/09/2009: Extending Comment Period from 11/23/2009 to 12/08/2009.

Dated: December 1, 2009.
Robert W. Hargrove,
Director, NEPA Compliance Division,
Office of Federal Activities.

[FR Doc. E9-28966 Filed 12-3-09; 8:45 am]

BILLING CODE 6560-50-P